SMALL BUSINESS ADMINISTRATION

Audit and Financial Management Advisory Committee

Pursuant to the Federal Advisory Committee Act, Appendix 2 of Title 5, United States Code, Public Law 92-463, notice is hereby given that the U.S. Small Business Administration, Audit and Financial Management Advisory Committee (AFMAC) will host a public meeting on Wednesday, October 3, 2007 at 9 a.m. The meeting will take place at the U.S. Small Business Administration, 409 3rd Street, SW., Office of the Chief Financial Officer Conference Room, 6th Floor, Washington, DC 20416.

The purpose of this meeting is to discuss the SBA's FY 2007 Financial Reporting, FY 2007 Audit Findings, FY 2007 Financial Report Production and AFMAC Member Reviews, Information System Security, FY 2007 Credit Subsidy Modeling, A-123 Internal Control Program, Performance Management Framework, FY 2007 Financial and Information Systems Audits, and Performance Management.

The AFMAC was established by the Administrator of the SBA to provide recommendation and advice regarding the Agency's financial management, including the financial reporting process, systems of internal controls, audit process and process for monitoring compliance with relevant laws and regulations.

Anyone wishing to attend must contact Jennifer Main in writing or by fax. Jennifer Main, Chief Financial Officer, 409 3rd Street, SW., 6th Floor, Washington, DC 20416, phone: (202) 205-6449, fax: (202) 205-6969, e-mail: Jennifer.main@sba.gov.

Raul Cisneros,
Deputy Chief of Staff.

[FR Doc. E7-18760 Filed 9-24-07; 8:45 am]

BILLING CODE 8025-01-P